DEPARTMENT OF THE TREASURY

Submission for OMB Review; Comment Request

August 21, 2008.

The Department of Treasury will submit the following public information collection requirement(s) to OMB for review and clearance under the Paperwork Reduction Act of 1995, Public Law 104-13 after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before September 26, 2008 to be assured of consideration.

Office of Foreign Assets Control

OMB Number: 1505-0168.

Type of Review: Extension.

Title: Travel Service Provider and Carrier Service Provider Submission

Description: Submissions will provide the U.S. Government with information to be used in enforcing various economic sanctions programs administered by OFAC under 31 CFR Chapter V.

Respondents: Businesses and other for-profit institutions.

Estimated Total Reporting Burden: 19,000 hours.

OMB Number: 1505-0202.

Type of Review: Extension.

Title: Request for a Specific License to Visit an Immediate Family Member.

Forms: TD-F-90-22.60, TD-F-90-22.60 (SP).

Description: Submissions will provide the U.S. Government with information to be used in enforcing the limitations on Cuba travel-related transactions incident to visiting immediate family members by persons subject to U.S. jurisdiction.

Respondents: Individuals or households.

Estimated Total Reporting Burden: 5,833 hours.

Clearance Officer: Office of Foreign Assets Control, (202) 622-0596, Office of the Chief Counsel, Room 2176 Treasury Annex, Washington, DC 20220.

OMB Reviewer: Alexander T. Hunt, (202) 395-7316, Office of Management and Budget, Room 10235, New Executive Office Building, Washington, DC 20503.

Robert Dahl,
Treasury PRA Clearance Officer.

[FR Doc. E8-19808 Filed 8-26-08; 8:45 am]

BILLING CODE 4810-25-P